DEPARTMENT OF AGRICULTURE

Natural Resources Conservation Service

Finding of No Significant Impact for Upper Salt Creek 19-B Rehabilitation; Lancaster County, NE

Introduction

The Upper Salt Creek 19-B Rehabilitation is a federally assisted action authorized for planning under Public Law 83-566, the Watershed Protection and Flood Prevention Act as amended by Section 313 of Public Law 106-472, The Small Watershed Rehabilitation Amendments of 2000. An environmental assessment was undertaken in conjunction with the development of the supplemental watershed plan. This assessment was conducted in consultation with local, State, and Federal agencies as well as with interested organizations and individuals. Data developed during the assessment are available for public review at the following location: U.S. Department of Agriculture, Natural Resources Conservation Service, Federal Building, Room 152, 100 Centennial Mall North, Lincoln, Nebraska 68508-3866.

Recommended Action

Proposed is the rehabilitation of one floodwater retarding structure, Upper Salt Creek 19-B on Wagon Train Creek above Wagon Train Lake Recreation Area. The Upper Salt Creek 19-B structure controls the drainage of 585 acres.

Effect of Recommended Action

Rehabilitation of the structure will meet State dam safety requirements and prolong the life of the structure and pool for 100 years. The permanent pool will decrease in size from 8.5 acres to 6.0 acres and the temporary flood pool will increase from 26.6 acres to 27.0 acres.

Sediment delivery to downstream areas including Wagon Train Lake will continue to be held back.

If there is a significant cultural resource discovery during construction, appropriate notice will be made by NRCS to the State Historic Preservation Officer and the National Park Service. Consultation and coordination have been and will continue to be used to ensure the provisions of Section 106 Public Law 89-665 have been met and to include provisions of Public Law 89-523, as amended by Public Law 93-291. NRCS will take action as prescribed in NRCS GM 420, Part 401, to protect or recover any significant cultural resources discovered during construction.

No endangered or threatened species in the watershed will be adversely affected by the project.

No significant adverse environmental impacts will result from installations except for temporary draining of the pool and minor inconveniences to local residents during construction.

Alternatives

Three alternatives were analyzed in this plan.

No Action alternative: the structure is breached by the sponsor in approximately four years. The structure will continue to be out of compliance with State dam safety regulations until it is breached. Flood protection and sediment control provided by the structure would end and increased flooding and associated problems would increase.

Decommissioning alternative: the structure would be removed and would therefore not be out of compliance with the State dam safety regulations. Flood protection and sediment control provided by the structure would end and increased flooding and associated problems would increase.

Rehabilitation to High Hazard Criteria alternative: the structure would be rehabilitated to current criteria and would be brought into compliance with State dam safety regulations for high hazard structures. Flood protection and sediment control would continue to be provided by the structure, pool and surrounding area.

Consultation—Public Participation

The Lower Platte South Natural Resources District submitted an application for assistance in January 2001. The request was a result of local concern and interest in addressing dam safety, flood protection, and sediment control.

A scoping meeting was held June 6, 2002 involving interdisciplinary efforts. Nebraska Game and Parks Commission, Lancaster County Roads, Lower Platte South Natural Resources District, Nebraska Department of Natural Resources, Resource Conservation and Development, University of Nebraska Extension Service, and local residents were in attendance.

The environmental assessment was transmitted to all participating and interested agencies, groups, and individuals for review and comment in July 2003. Public meetings were held throughout the planning process to keep all interested parties informed of the study progress and to obtain public input to the plan and environmental evaluation.

Agency consultation and public participation to date have shown no unresolved conflicts with the implementation of the selected plan.

Conclusion

The Environmental Assessment summarized above indicates that this Federal action will not cause significant local, regional or national impacts on the environment. Therefore, based on the above findings, I have determined that an environmental impact statement for the Upper Salt Creek 19-B Rehabilitation is not required.

Stephen K. Chick,
State Conservationist.

[FR Doc. E6-189 Filed 1-11-06; 8:45 am]

BILLING CODE 3410-16-P